CONSUMER PRODUCT SAFETY COMMISSION

16 CFR Part 1308

[Docket No. CPSC-2016-0017]

Prohibition of Children's Toys and Child Care Articles Containing Specified Phthalates: Revision of Determinations Regarding Certain Plastics; Correction

AGENCY: Consumer Product Safety Commission.

ACTION: Correcting amendments.

SUMMARY: On January 26, 2018, the Commission issued a direct final rule to revise the plastics determinations rule to cover certain phthalates that the phthalates final rule prohibits from use in children's toys and child care articles. That document contained typographical errors. This document corrects the typographical errors in the direct final rule.

DATES: Effective on July 23, 2018.

FOR FURTHER INFORMATION CONTACT: John W. Boja, Lead Compliance Officer, Office of Compliance and Field Operations, Consumer Product Safety Commission, 4330 East-West Highway, Bethesda, MD 20814-4408; telephone: 301-504-7300; email: jboja@cpsc.gov.

SUPPLEMENTARY INFORMATION: The Commission is correcting typographical errors in the direct final rule Prohibition of Children's Toys and Child Care Articles Containing Specified Phthalates: Revision of Determinations Regarding Certain Plastics, 16 CFR part 1308 that appeared in the Federal Register on January 26, 2018. 83 FR 3583. This document corrects typographical errors in the list of phthalates in § 1308.1 of the direct final rule. We are making these corrections to avoid possible confusion. This document corrects technical errors; it does not make any substantive changes to the final rule.

List of Subjects in 16 CFR Part 1308

Business and industry, Consumer protection, Imports, Infants and children, Product testing and certification, Toys.

Accordingly, the 16 CFR part 1308 is corrected by making the following correcting amendments:

PART 1308—PROHIBITION OF CHILDREN'S TOYS AND CHILD CARE ARTICLES CONTAINING SPECIFIED PHTHALATES: DETERMINATIONS REGARDING CERTAIN PLASTICS

1. The authority citation for part 1308 continues to read as follows:

Authority: Sec. 3, Pub. L. 110-314, 122 Stat. 3016; 15 U.S.C. 2063(d)(3)(B).

§ 1308.1 [Amended]

2. Amend § 1308.1 by:

a. Removing the words “di-(2-ethylhexl) phthalate (DEHP)” and adding, in its place, the words “di-(2-ethylhexyl) phthalate (DEHP)”; and

b. Removing the words “dicyclohexly phthalate (DCHP)” and adding, in its place, the words “dicyclohexyl phthalate (DCHP)”.

Abioye E. Mosheim,
Acting Secretary, U.S. Consumer Product Safety Commission.

[FR Doc. 2018-15661 Filed 7-20-18; 8:45 am]

BILLING CODE 6355-01-P